DEPARTMENT OF THE TREASURY

United States Mint

Request for Candidates Interested in Appointment to the Citizens Coinage Advisory Committee

ACTION: Request for candidates.

SUMMARY: The United States Mint, pursuant to United States Code, title 31, section 5135(b), is accepting applications for appointment to the Citizens Coinage Advisory Committee (CCAC) as the member specially qualified to serve on the CCAC by virtue of the candidate's education, training, or experience in Medallic Arts or Sculpture.

SUPPLEMENTARY INFORMATION:

The CCAC was established to:

Advise the Secretary of the Treasury on any theme or design proposals relating to circulating coinage, bullion coinage, Congressional Gold Medals, and national and other medals produced by the United States Mint.

Advise the Secretary of the Treasury with regard to the events, persons, or places that the CCAC recommends be commemorated by the issuance of commemorative coins in each of the five calendar years succeeding the year in which a commemorative coin designation is made.

Make recommendations with respect to the mintage level for any commemorative coin recommended.

Total membership consists of 11 voting members appointed by the Secretary of the Treasury:

One person specially qualified by virtue of their education, training, or experience as nationally or internationally recognized curator in the United States of a numismatic collection;

One person specially qualified by virtue of their experience in the medallic arts or sculpture;

One person specially qualified by virtue of their education, training, or experience in American history;

One person specially qualified by virtue of their education, training, or experience in numismatics;

Three persons who can represent the interests of the general public in the coinage of the United States; and

Four persons appointed by the Secretary of the Treasury on the basis of the recommendations by the House and Senate leadership.

Members are appointed for a term of four years. No individual may be appointed to the CCAC while serving as an officer or employee of the Federal Government.

The CCAC is subject to the direction of the Secretary of the Treasury. Meetings of the CCAC are open to the public and are held approximately four to six times per year. The United States Mint is responsible for providing the necessary support, technical services, and advice to the CCAC. CCAC members are not paid for their time or services, but, consistent with Federal Travel Regulations, members are reimbursed for their travel and lodging expenses to attend meetings. Members are Special Government Employees and are subject to the Standards of Ethical Conduct for Employees of the Executive Branch (5 CFR part 2653).

The United States Mint will review all submissions and forward its recommendations to the Secretary of the Treasury for appointment consideration. Candidates should include specific skills, abilities, talents, and credentials to support their qualifications. The United States Mint is interested in candidates who, in addition to their experience in medallic arts or sculpture, have demonstrated interest and a commitment to actively participate in meetings and activities, and a demonstrated understanding of the role of the CCAC and the obligations of a Special Government Employee; possess demonstrated leadership skills in their fields of expertise or discipline; possess a demonstrated desire for public service and have a history of honorable professional and personal conduct, as well as successful standing in their communities; and who are free of professional, political, or financial interests that could negatively affect their ability to provide impartial advice.

Submission Deadline: 5 p.m. (ET), January 3, 2024.

Receipt of Submission: Any member of the public wishing to be considered for participation on the committee should submit a resume and cover letter describing their qualifications and reasons for seeking appointment as the member specially qualified by virtue of their experience in medallic arts or sculpture, by email to info@ccac.gov, Attn: Jennifer Warren. Email submissions must be received by no later than 5 p.m. (ET) on January 3, 2024.

For Further Information Contact: Jennifer Warren, United States Mint Liaison to the CCAC; jennifer.warren@usmint.treas.gov or 202-354-7208.

Eric Anderson,
Executive Secretary, United States Mint.

[FR Doc. 2023-25719 Filed 11-20-23; 8:45 am]

BILLING CODE 4810-37-P